DEPARTMENT OF ENERGY

Federal Energy Regulatory Commission

[Docket No. AD22-9-000]

New England Winter Gas-Electric Forum; Supplemental Notice of Second New England Winter Gas-Electric Forum

As announced in the Notice of Forum and the Supplemental Notice of Forum issued in this proceeding on February 16, 2023, and April 13, 2023, respectively, the Federal Energy Regulatory Commission (Commission) will convene a Commissioner-led forum on Tuesday, June 20, 2023, from approximately 9:00 a.m. to 5:00 p.m. Eastern Time, to discuss possible solutions to the electricity and natural gas challenges facing the New England Region. The final agenda for this forum is attached, which identifies the forum panelists. Attached to this notice are questions for the panelists; we request panelists file position statements addressing these questions in this docket no later than June 9, 2023. Written responses to these questions are voluntary and will be used to supplement the record for discussion at the forum.

The forum will be open to the public and be held at the DoubleTree by Hilton Portland, 363 Maine Mall Rd, Portland, ME, 04106. Registration for in-person attendance is required, and there is no fee for attendance. A link to attendee registration is available on the New England Winter Gas-Electric Forum event page on the Commission's website. Due to space constraints, seating for this event will be limited and registrants that get a confirmed space will be contacted via email. Only confirmed registrants will be admitted to the forum given the maximum occupancy limit at the venue (as required by fire and building safety code). Therefore, the Commission encourages members of the public who wish to attend this event in person to register at their earliest convenience. Online registration will be open until June 19, the day before the forum, or as long as attendance capacity is available. Once registration has reached capacity, registration will be closed. However, those interested in attending after capacity has been reached can join a waiting list (using the same registration link) and be notified if space becomes available. Those who are unable to attend in person may watch the free webcast.

The webcast will allow persons to listen and observe the forum remotely but not participate. Information on this forum, including a link to the webcast, will be posted prior to the event on this forum's event page on the Commission's website. A recording of the webcast will be made available after the forum in the same location on the Calendar of Events. The forum will be transcribed. Transcripts of the forum will be available for a fee from Ace-Federal Reporters, Inc. (202-347-3700).

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this forum, please contact NewEnglandForum@ferc.gov or sarah.mckinley@ferc.gov for technical or logistical questions.

Dated: May 26, 2023.
Kimberly D. Bose,
Secretary.

Second New England Winter Gas-Electric Forum

Docket No. AD22-9-000

June 20, 2023

Agenda

9:00 a.m.-9:15 a.m.: Welcome and Opening Remarks from the Chairman and Commissioners

9:15 a.m.-9:45 a.m.: Opening Presentations: Winters 2023/2024 and 2024/2025 in New England and the Role of Everett

The forum will commence with a presentation by ISO New England Inc. (ISO-NE) that discusses the upcoming winters of 2023/2024 and 2024/2025 with consideration for the Everett Marine Terminal's (Everett) availability and its impact on the ISO-NE electric grid. Following ISO-NE's presentation on upcoming winters, a second presentation by Richard Levitan will explain Everett's physical capabilities and its impact on the electric and natural gas systems in New England.

Panelists

• Stephen George, Director, Operational Performance, Training and Integration, ISO New England

• Richard Levitan, President, Levitan & Associates

9:45 a.m.-10:45 a.m.: Panel 1: Should Everett be Retained and, if so, how?

Panel 1 will allow panelists to provide their views on the need for Everett on the electric and natural gas systems in New England. This panel may also discuss fuel procurement needs and challenges, including the fuel procurement and LNG capabilities available to New England from facilities other than Everett. Finally, this panel will discuss the constraints surrounding the planned retirement of Everett and the future winter expected impacts on the New England electric and natural gas systems.

Panelists

• Carrie H. Allen, Constellation Energy Generation, SVP and DGC, Regulatory Policy

• Vamsi Chadalavada, Executive Vice President and Chief Operating Officer, ISO New England

• Charles Dickerson, President and CEO, Northeast Power Coordinating Council (NPCC)

• Dan Dolan, President, New England Power Generators Association (NEPGA)

• James Holodak, Jr., Vice President, Energy Supply, National Grid

• Richard Levitan, President, Levitan & Associates

• Robert Neustaedter, Directory of Regulatory Affairs, Repsol

• Ernesto Ochoa, Vice President of Commercial, Kinder Morgan

Panelist Questions

Please comment on whether Everett is needed for the reliable operation of the electric and/or natural gas systems in New England during the upcoming winters and beyond. As part of these comments, please address the following:

a. Is there sufficient information available to make this assessment? If not, what additional information would be most useful to determine whether there is a need to retain Everett (e.g., information about the uses of, beneficiaries of, and costs to maintain the Everett facility)?

b. Is LNG from other sources (e.g., Repsol and/or Excelerate) a full substitute for the LNG from Everett? If not, under what circumstances is it not a full substitute and are there conditions under which electric system and/or gas system operators would be unable to meet electric and/or gas demand or maintain reliable service if Everett retires?

c. To the extent there is a need for Everett's continued operation, does that need change over a longer time horizon? If so, what circumstances drive its need?

d. What are potential next steps on these issues in both the short-term (winters 2023/2024 and 2024/2025) and beyond (beginning winter 2025/2026)?

10:45 a.m.-11:15 a.m.: Third Presentation: Extreme Weather Risks to ISO-NE, Presentation of the EPRI Study by ISO-NE and EPRI

The third presentation, by ISO-NE and the Electric Power Research Institute (EPRI), will detail the development of the EPRI model, the assumptions used, parameters considered, and the study results for the target year of 2027.¹ ISO-NE and EPRI will also explain the study's key conclusions and offer thoughts on how those conclusions should be considered in the context of developing solutions to the region's electricity and natural gas challenges.

¹ Each year as part of its Annual Work Plan, ISO-NE develops “Anchor Projects,” which for 2023 includes ISO-NE's work with EPRI to develop an “innovative framework for conducting a probabilistic energy-security study that assesses the operational impact of future extreme weather events.” See ISO-NE, ISO New England's 2023 Annual Work Plan, (October 2022) at 7, https://www.iso-ne.com/static-assets/documents/2022/10/2023_awp_final_10_12_22.pdf. The preliminary study results for Winter 2027 can be found on the ISO-NE website. See ISO-NE, Operational Impacts of Extreme Weather Events, Preliminary Results of Energy Adequacy Studies for Winter 2027, (May 16, 2023), https://www.iso-ne.com/static-assets/documents/2023/05/a10_operational_impact_of_extreme_weather_events.pdf.

Panelists

• Vamsi Chadalavada, Executive Vice President and Chief Operating Officer, ISO New England

• Stephen George, Director, Operational Performance, Training and Integration, ISO New England

11:15 a.m.-12:15 p.m.: Panel 2: Reactions to the EPRI Study

This panel will give panelists an opportunity to provide their reactions to the EPRI study's assumptions, inputs, and results. This panel will discuss what actionable steps should be taken, if any, as a result of the study's findings, and whether additional study or analysis is needed.

Panelists

• Phil Bartlett, Chair, Maine Public Utilities Commission

• Vamsi Chadalavada, Executive Vice President and Chief Operating Officer, ISO New England

• James Daly, Vice President Energy Supply, Eversource Energy

• Ronald T. Gerwatowski, Chairman, Rhode Island Public Utilities Commission

• Stephen George, Director, Operational Performance, Training and Integration, ISO New England

• Ben Griffiths, Senior Director of New England Regulatory Policy, LS Power

• Mark Lauby, Senior Vice President and Chief Engineer, North American Electric Reliability Corporation (NERC)

• Rob Perkins, Vice President of Pipeline Management, Kinder Morgan

Panelist Questions

Please comment on the assumptions and conclusions of the EPRI study and what next steps should be taken given the study's results. As part of these comments, please address the following:

a. Do these findings provide the information needed to make decisions about winter energy risks in New England? If not, what additional information is needed?

b. Are additional or continuous studies needed to assess New England electric and gas winter issues? If so, what analyses are needed and how often should this be conducted?

12:15 p.m.-1:45 p.m.: Lunch Break

1:45 p.m.-3:00 p.m.: Panel 3: Path to Sustainable Solutions—Infrastructure

Based on the findings and issues identified in the previous panels and presentations, Panel 3 will shift toward discussing potential infrastructure solutions beyond winter 2023/2024. While retention of Everett has been raised as one possible solution, this panel will discuss the merits of other, longer-term solutions available to the region and the timelines for implementing them. Potential topics for discussion include: (1) new electric transmission interconnections with other regions; (2) the timing and impact of new offshore wind, onshore wind, and solar resource development; (3) transmission planning to enable efficient development of expected offshore wind additions; (4) increased natural gas pipeline infrastructure/capacity; and (5) increased oil and natural gas storage capability.

Panelists

• David Cavanaugh, Senior Vice President Regulatory & Market Affairs, Energy New England

• Patricia DiOrio, Head of Americas Project Development, Orsted North America

• Vandan Divatia, Vice President, Transmission Policy, Compliance, and Interconnections, Eversource Energy

• Katie Dykes, Commissioner, Connecticut Department of Energy and Environmental Protection

• Bob Ethier, Vice President, System Planning, ISO New England

• Richard Paglia, Vice President, Marketing & Business Development, Enbridge

• Rebecca Tepper, Secretary, Massachusetts Executive Office of Energy and Environmental Affairs

Panelist Questions

Please comment on what infrastructure is necessary to support reliable electric and gas system operations in New England. As part of these comments, please address the following:

a. Are those infrastructure projects currently being pursued? If not, why not?

b. What obstacles need to be addressed to allow new infrastructure to be placed timely into operation, and how are those obstacles currently being addressed?

c. What steps, if any, should the Commission, ISO-NE, the New England states, and/or others take to address obstacles under their jurisdiction?

3:00 p.m.-3:15 p.m.: Break

3:15 p.m.-4:30 p.m.: Panel 4: Path to Sustainable Solutions—Market Design

In Panel 4, Commissioners and panelists will discuss potential market solutions to New England's winter reliability challenges. Specifically, this panel will discuss any potential merits and benefits of market design changes to ISO-NE markets to enhance resource performance incentives, including incentives for resources to make advanced fuel procurements and/or maintain fuel inventories in the winter months; and align capacity market structure and rules with observed reliability risks—e.g., by reforming resource capacity accreditation and/or conducting prompt and/or seasonal capacity auctions.

Panelists

• Riley Allen, Commissioner, Vermont Public Utility Commission

• Michelle Gardner, Executive Director Regulatory Affairs—Northeast, NextEra Energy Resources

• Mark Karl, Vice President, Market Development and Settlements, ISO New England

• Donald Kreis, Consumer Advocate, New Hampshire Office of the Consumer Advocate

• Pallas LeeVanSchaick, Vice President, Potomac Economics

• Aleks Mitreski, Senior Director, Regulatory Affairs, Brookfield Renewables

• Christie Prescott, Director, Energy Supply, United Illuminating

• Andrew Weinstein, Vice President, FERC Market Policy, Vistra

Panelist Questions

Please comment on what market reforms are necessary to support reliable electric and gas system operations in New England. As part of these comments, please address the following:

a. What proposals currently under consideration in the stakeholder process and in the ISO-NE work plan would be most helpful to address New England's winter electric and gas system challenges?

i. Are these proposals appropriately prioritized? If not, what should be done and how can necessary market changes be expedited?

ii. At a high level, are there any major concerns with the current proposals under discussion that should be addressed?

b. Are there additional reforms that are not currently under consideration in the stakeholder process that are necessary for energy resources to enhance fuel procurement strategies? If so, what other reforms should be considered? How should these market changes should be prioritized?

4:30 p.m.-5:00 p.m.: Closing Roundtable

In the Closing Roundtable, Commissioners and panelists will discuss what was learned through the presentations and panels and consider next steps. Topics will include what solutions stakeholders agree on pursuing and the timeline for implementing them as well as discussion of if, how, and when longer term solutions can be implemented sooner than currently expected.

Panelists

• Jim Robb, President and CEO, North American Electric Reliability Corporation (NERC)

• Gordon van Welie, President and CEO, ISO New England

State Representatives

• Phil Bartlett, Chair, Maine Public Utilities Commission

• Katie Dykes, Commissioner, Connecticut Department of Energy and Environmental Protection

• Ronald T. Gerwatowski, Chairman, Rhode Island Public Utilities Commission

• Carleton Simpson, Commissioner, New Hampshire Public Utilities Commission

• Rebecca Tepper, Secretary, Massachusetts Executive Office of Energy and Environmental Affairs

• June Tierney, Commissioner, Vermont Department of Public Service

[FR Doc. 2023-11765 Filed 6-1-23; 8:45 am]

BILLING CODE 6717-01-P